DEPARTMENT OF THE INTERIOR

Minerals Management Service

Agency Information Collection Activities: Proposed Collection; Comment Request

AGENCY: Minerals Management Service (MMS), Interior.

ACTION: Extension of comment period for new information collection.

SUMMARY: This document extends to March 23, 2004, the previous deadline of February 23, 2004, for submitting comments on the proposed new information collection published on December 24, 2003 (68 FR 74647), that concerns four new forms to collect information required under 30 CFR 256, “Leasing of Sulphur or Oil and Gas in the Outer Continental Shelf.” The below forms will be used by all MMS Regional Offices:

• MMS-149, Assignment of Interest in Federal Pipeline Right-of-Way

• MMS-150, Assignment of Record Title Interest in Federal OCS Oil & Gas Lease

• MMS-151, Assignment of Operating Rights Interest in Federal OCS Oil & Gas Lease

• MMS-152, Relinquishment of Federal OCS Oil & Gas Lease.

DATES: Submit written comments by March 23, 2004.

ADDRESSES: Mail or hand carry comments to the Department of the Interior; Minerals Management Service; Attention: Rules Processing Team; Mail Stop 4024; 381 Elden Street; Herndon, Virginia 20170-4817. If you wish to e-mail comments, the address is: rules.comments@mms.gov. Reference “Information Collection 1010-NEW—Assignment Forms” in your e-mail subject line and mark your message for return receipt. Include your name and return address in your message.

FOR FURTHER INFORMATION CONTACT: Arlene Bajusz, Rules Processing Team at (703) 787-1600 to obtain a copy, at no cost, of the forms or regulations that require the subject collection of information. You may also print a copy of these forms from the MMS Web site: http://www.gomr.mms.gov/homepg/lsesale/proposed_forms.html under the heading “Leasing.” For more information on the forms themselves, contact Steven K. Waddell, Supervisor, Adjudication Unit, (504) 736-1710.

SUPPLEMENTARY INFORMATION: The MMS published a notice on proposed new information collection on December 24, 2003, (68 FR 74647). This notice concerns forms used to collect assignment, transfer, extension, and termination of lease information required under 30 CFR part 256, “Leasing of Sulphur or Oil and Gas in the Outer Continental Shelf.” The Federal Government has been receiving and approving transfers of ownership interest in leases since the inception of the OCS Lands Act, as amended. Currently, owners of Federal offshore leases submit their own forms of Assignment and Relinquishment documents for approval by MMS. Occasionally, the information is incorrect and the intent of the parties is not clear as to the conveyance of ownership interest in the lease or pipeline right-of-way, causing MMS to return the assignment unapproved. These forms have been created to provide a standardized document that will be accepted in all MMS Regional offices; they can be easily prepared by industry and quickly approved by MMS.

To implement the Government Paperwork Elimination Act and to further streamline data collection, MMS is developing systems to provide electronic options for lessees and operators to use in submitting information and requesting approvals. These forms are part of that effort to allow electronic options for lessees and operators to use in submitting information and requesting approvals. In standardizing the input of this information, MMS is providing a means for rapid preparation by industry and reduced analytical time by MMS staff, therefore approving the transfers quicker.

MMS uses this information to track ownership of all offshore leases as to record title, operating rights, and ownership of pipelines, and whether or not the lease has been relinquished and available for the next lease sale. MMS uses the information to update the corporate database, which is in turn used to determine what leases are available for a lease sale. The information in this database is provided to the public via the internet. Without the information, MMS would not be able to track the ownership of leases and therefore not be able to identify responsible parties for the liabilities of the lease, which could total millions of dollars.

The MMS has held a public forum on the proposed forms at the Gulf of Mexico Regional Office, 1201 Elmwood Park Boulevard, New Orleans, Louisiana, on February 11, 2004. Additional time to develop comments after the meeting is being provided by this notice; therefore, we are extending the comment period for 30 more days to March 23, 2004. For further information, contact Steven K. Waddell, Supervisor, Adjudication Unit, (504) 736-1710.

Public Comment Policy: MMS's practice is to make comments, including names and home addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Federal Register Liaison Officer: Denise Johnson (202) 208-3976.

Dated: February 11, 2004.
E.P. Danenberger,
Chief, Engineering and Operations Division.

[FR Doc. 04-3459 Filed 2-17-04; 8:45 am]

BILLING CODE 4310-MR-P